DEPARTMENT OF HEALTH AND HUMAN SERVICES

Centers for Disease Control and Prevention

[30-Day-10-0639]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC 20503 or by fax to (202) 395-5806. Written comments should be received within 30 days of this notice.

Proposed Project

Special Exposure Cohort Petitions, (OMB Control Number 0920-0639, Expiration Date 07/31/2010)—Extension—National Institute for Occupational Safety and Health (NIOSH), Centers for Disease Control and Prevention (CDC).

Background and Brief Description

On October 30, 2000, the Energy Employees Occupational Illness Compensation Program Act of 2000 (EEOICPA), 42 U.S.C. 7384-7385 [1994, supp. 2001] was enacted. It established a compensation program to provide a lump sum payment of $150,000 and medical benefits as compensation to covered employees suffering from designated illnesses incurred as a result of their exposure to radiation, beryllium, or silica while in the performance of duty for the Department of Energy and certain of its vendors, contractors and subcontractors. This legislation also provided for payment of compensation for certain survivors of these covered employees. There is no change to the information collection. This program has been mandated to be in effect until Congress ends the funding.

EEOICPA instructed the President to designate one or more Federal Agencies to carry out the compensation program. Accordingly, the President issued Executive Order 13179 (“Providing Compensation to America's Nuclear Weapons Workers”) on December 7, 2000 (65 FR 77487), assigning primary responsibility for administration of the compensation program to the Department of Labor (DOL). The executive order directed the Department of Health and Human Services (HHS) to perform several technical and policymaking roles in support of the DOL program.

Among other duties, the executive order directed HHS to establish and implement procedures for considering petitions by classes of nuclear weapons workers to be added to the “Special Exposure Cohort” (the “Cohort”), various groups of workers whose claims for cancer under EEOICPA can be adjudicated without demonstrating that their cancer was “at least as likely as not” caused by radiation doses they incurred in the performance of duty. In brief, EEOICPA authorizes HHS to designate such classes of employees for addition to the Cohort when NIOSH lacks sufficient information to estimate with sufficient accuracy the radiation doses of the employees, if HHS also finds that the health of members of the class may have been endangered by the radiation dose the class potentially incurred. HHS must also obtain the advice of the Advisory Board on Radiation and Worker Health (the Board) in establishing such findings. On March 7, 2003, HHS proposed procedures for adding such classes to the Cohort in a notice of proposed rulemaking at 42 CFR Part 83.

The HHS procedures authorize a variety of individuals and entities to submit petitions, as specified under § 83.7. Petitioners are required to provide the information specified in § 83.9 to qualify their petitions for a complete evaluation by HHS and the Board. HHS has developed two petition forms to assist the petitioners in providing this required information efficiently and completely, and an Authorization Form to permit a respondent to authorize another party to submit a petition on their behalf, as specified in § 83.7. Petition Form A is a one-page form to be used by EEOICPA claimants for whom NIOSH will have attempted to conduct dose reconstructions and will have determined that available information is not sufficient to complete the dose reconstruction. The form addresses the informational requirements specified under § 83.9(a) and (b). Petition Form B, accompanied by separate instructions, is intended for all other petitioners. The form addresses the informational requirements specified under § 83.9(a) and (c). Forms A and B can be submitted electronically as well as in hard copy. Petitioners should be aware that HHS is not requiring petitioners to use the forms. Petitioners can choose to submit petitions as letters or in other formats, but petitions must meet the informational requirements referenced above. NIOSH expects, however, that all petitioners for whom Form A would be appropriate will actually use the form, since NIOSH will provide it to them upon determining that their dose reconstruction cannot be completed and encourage them to submit the petition. NIOSH expects the large majority of petitioners for whom Form B would be appropriate will also use the form, since it provides a simple, organized format for addressing the informational requirements of a petition.

NIOSH will use the information obtained through the petition for the following purposes: (a) Identify the petitioner(s), obtain their contact information, and establish that the petitioner(s) is qualified and intends to petition HHS; (b) establish an initial definition of the class of employees being proposed to be considered for addition to the Cohort; (c) determine whether there is justification to require HHS to evaluate whether or not to designate the proposed class as an addition to the Cohort (such an evaluation involves potentially extensive data collection, analysis, and related deliberations by NIOSH, the Board, and HHS); and, (d) target an evaluation by HHS to examine relevant potential limitations of radiation monitoring and/or dosimetry-relevant records and to examine the potential for related radiation exposures that might have endangered the health of members of the class.

Finally, under § 83.18, petitioners may contest the proposed decision of the Secretary to add or deny adding classes of employees to the cohort by submitting evidence that the proposed decision relies on a record of either factual or procedural errors in the implementation of these procedures. NIOSH estimates that the time to prepare and submit such a challenge is 45 minutes. Because of the uniqueness of this submission, NIOSH is not providing a form.

There are no costs to petitioners unless a petitioner chooses to purchase the services of a expert in dose reconstruction, an option provided for under 42 CFR 83.9(c)(2)(iii). The petitioner would assume the financial burden of purchasing such services at their option. In such cases, HHS estimates a report by such an expert may cost between $640 and $6,400, depending on the scope of the petition and access to relevant information. This is based on an estimate of costs of $80 per hour for contractual services by a health physicist, who NIOSH estimates would be employed within a range of eight to eighty hours to conduct and prepare a report on the required assessment.

The total estimated annual burden hours are 238.

Estimate of Annualized Burden Hours
Form name & number (CFR reference) | Respondents | No. of respondents | No. of responses per respondent | Average burden per respondent (in hours)
Form A 42 CFR 83.9 | Petitioners using Form A | 30 | 1 | 3/60
Form B 42 CFR 83.9 | Petitioners using Form B | 40 | 1 | 5
42 CFR 83.9 | Petitioners not using Form B | 5 | 1 | 6
42 CFR 83.18 | Petitioners Appealing proposed decisions | 5 | 1 | 45/60
Authorization Form 42 CFR 83.7 | Person authorizing a party to submit a petition on his/her behalf | 20 | 1 | 3/60

Dated: July 13, 2010.
Carol Walker,
Acting Reports Clearance Officer, Centers for Disease Control and Prevention.

[FR Doc. 2010-17685 Filed 7-19-10; 8:45 am]

BILLING CODE 4163-18-P